NATIONAL SCIENCE FOUNDATION

Notice of Availability of a Draft Environmental Assessment

AGENCY: National Science Foundation.

ACTION: Notice of availability of a draft Environmental Assessment for proposed activities in the Pacific Ocean.

SUMMARY: The National Science Foundation gives notice of the availability of a draft Environmental Assessment for proposed activities in the Pacific Ocean.

The Division of Ocean Sciences in the Directorate for Geosciences (GEO/OCE) has prepared a draft Environmental Assessment for a low-energy marine seismic survey by the Research Vessel Roger Revelle in the South Pacific Ocean, in international waters roughly between 23° and 47° S, and between 115° and 165° W during December 2006-January 2007. The draft Environmental Assessment is available for public review for a 30-day period.

DATES: Comments must be submitted on or before September 5, 2006.

ADDRESSES: Copies of the draft Environmental Assessment are available upon request from: Dr. William Lang, National Science Foundation, Division of Ocean Sciences, 4201 Wilson Blvd., Suite 725, Arlington, VA 22230. Telephone: (703) 292-7857. The draft is also available on the agency's Web site at http://www.nsf.gov/geo/oce/pubs/scripps_seismic_southpac_dec2006_EA.pdf.

SUPPLEMENTARY INFORMATION: The Scripps Institution of Oceanography (SIO), with research funding from the National Science Foundation (NSF), plans to conduct a piston/gravity coring, magnetic, and seismic survey program at 12 sites in the South Pacific Ocean during December 2006-January 2007. The proposed action is part of the Integrated Ocean Drilling Program (IODP) and will collect data that will be used to (1) document the metabolic activities genetic composition, and biomass of prokaryotic communities in the subseafloor sediments with very low total activity; (2) quantify the extent to which those communities may be supplied with harvestable energy by water radiolysis, a process independent of the surface photosynthetic world; and (3) survey broad characteristics of subseafloor communities and habitats in this region, in order to refine the planning and objectives of IODP South Pacific research. The seismic survey is required to locate optimal piston/gravity-coring sites and involves one vessel, the R/V Roger Revelle. One pair of low-energy Generator-Injector (GI) airguns (45 in³ discharge volume each) will used as the seismic energy source with a proposed survey program of approximately 1930 km of seismic lines, including turns, with water depths of 3200 to 5700m. The research will be carried out entirely within international waters.

Numerous species of cetaceans and sea turtles occur in the South Pacific Ocean. Several of the species are listed as Endangered under the U.S. Endangered Species Act (ESA). The increased underwater noise from the research may result in avoidance behavior by some marine animals, and other forms of disturbance. An integral part of the planned survey is a monitoring and mitigation program designed to minimize impacts of the proposed activities on marine species present, and to document the nature and extent of any effects. Injurious impacts to marine animals have not been proven to occur near equipment proposed to be used in this research; however, the planned monitoring and mitigation measures would minimize the possibility of such effects should they otherwise occur.

With the planned monitoring and mitigation measures, unavoidable impacts to each of the species of marine mammal that might be encountered are expected to be limited to short-term localized changes in behavior and distribution near the seismic vessel. At most, such effects may be interpreted as falling within the Marine Mammal Protection Act (MMPA) definition of “Level B Harassment” for those species managed by NMFS. No long-term or significant effects are expected on individual marine mammals, or the populations to which they belong, or their habitats. The agency is currently consulting with the National Marine Fisheries Service regarding species within their jurisdiction potentially affected by this proposed activity.

Copies of the draft Environmental Assessment, titled “Environmental Assessment of a Planned Low-Energy Marine Seismic Survey by the Scripps Institution of Oceanography in the South Pacific Ocean, December 2006-January 2007”, are available upon request from: Dr. William Lang, National Science foundation, Division of Ocean Sciences, 4201 Wilson Blvd., Suite 725, Arlington, VA 22230. Telephone: (703) 292-7857 or at the agency's Web site at: http://www.nsf.gov/geo/oce/pubs/scripps_seismic_southpac_dec2006_EA.pdf. The National Science Foundation invites interested members of the public to provide written comments on this draft Environmental Assessment.

Dated: July 31, 2006.
William Lang,
Program Director, Division of Ocean Sciences, National Science Foundation.

[FR Doc. 06-6668 Filed 8-3-06; 8:45am]

BILLING CODE 7555-01-M